DEPARTMENT OF ENERGY

Environmental Management Site-Specific Advisory Board, Portsmouth

AGENCY: Department of Energy (DOE).

ACTION: Notice of open meeting.

SUMMARY: This notice announces a meeting of the Environmental Management Site-Specific Advisory Board (EM SSAB), Portsmouth, Decontamination and Decommissioning (D&D) and Future Land Use (FLU) Committees. The Federal Advisory Committee Act (Pub. L. No. 92-463, 86 Stat. 770) requires that public notice of this meeting be announced in the Federal Register.

DATES: Tuesday, November 10, 2009, 4:30 p.m.

Tuesday, November 10, 2009, 6:30 p.m.

ADDRESSES: Ohio State University, Endeavor Center, 1862 Shyville Road, Piketon, Ohio 45661.

FOR FURTHER INFORMATION CONTACT: David Kozlowski, Deputy Designated Federal Officer, Department of Energy Portsmouth/Paducah Project Office, Post Office Box 700, Piketon, Ohio 45661, (740) 897-2759, David.Kozlowski@lex.doe.gov.

SUPPLEMENTARY INFORMATION:

Purpose of the Board: The purpose of the Board is to make recommendations to DOE in the areas of environmental restoration, waste management and related activities.

Tentative Agenda

4:30 p.m. D&D Committee

• Discussion of key questions from October Retreat

• Developing Path Forward

• Public Comment Period

• Action Items

• Adjourn

6:30 p.m. FLU Committee

• Review of August Summary

• Kentucky Research Consortium for Energy and Environment Presentation on Future Use Project

• Discussion of key questions from October Retreat

• Public Comment Period

• Action Items

• Adjourn

Breaks taken as appropriate.

Public Participation: The meetings are open to the public. The EM SSAB, Portsmouth, welcomes the attendance of the public at its advisory committee meetings and will make every effort to accommodate persons with physical disabilities or special needs. If you require special accommodations due to a disability, please contact David Kozlowski at least seven days in advance of the meeting at the phone number listed above. Written statements may be filed with the Board either before or after the meeting. Individuals who wish to make oral statements pertaining to agenda items should contact David Kozlowski at the address or telephone number listed above. Requests must be received five days prior to the meeting and reasonable provision will be made to include the presentation in the agenda. The Deputy Designated Federal Officer is empowered to conduct the meetings in a fashion that will facilitate the orderly conduct of business. Individuals wishing to make public comment will be provided a maximum of five minutes to present their comments. This notice is being published less than 15 days prior to the meeting date due to programmatic issues that had to be resolved prior to the meetings.

Minutes: Minutes will be available by writing or calling David Kozlowski at the address and phone number listed above. Minutes will also be available at the following Web site: http://www.ports-ssab.org/publicmeetings.html.

Issued at Washington, DC, on October 28, 2009.
Rachel Samuel,
Deputy Committee Management Officer.

[FR Doc. E9-26455 Filed 11-2-09; 8:45 am]

BILLING CODE 6450-01-P